DEPARTMENT OF AGRICULTURE

Animal and Plant Health Inspection Service

[Docket No. APHIS-2021-0071]

Privacy Act of 1974; System of Records

AGENCY: Animal and Plant Health Inspection Service, U.S. Department of Agriculture (USDA).

ACTION: Rescindment of a system of records notice.

SUMMARY: The U.S. Department of Agriculture is issuing a public notice of its intent to rescind an Animal and Plant Health Inspection Service (APHIS) Privacy Act system of records notice, Brucellosis Information System and Brucellosis Recording and Reporting System, USDA/APHIS-6. This system was created to maintain information on herds and individual animals tested, studied, or restricted under the brucellosis program; epidemiologic studies; State and Federal personnel; contractual personnel; livestock markets; slaughtering establishments; milk processing plants; livestock dealers (including agents and brokers); and laboratories engaged in or affected by brucellosis program activities. This system of records notice is rescinded because it has been superseded by another system of records published by the Department.

DATES: The rescindment will become applicable by December 6, 2024.

ADDRESSES: You may submit comments by either of the following methods:

• Federal eRulemaking Portal: Go to http://www.regulations.gov. Enter APHIS-2021-0071 in the Search field. Select the Documents tab, then select the Comment button in the list of documents.

• Postal Mail/Commercial Delivery: Please send one copy of your comment to Docket No. APHIS-2021-0071, Regulatory Analysis and Development, PPD, APHIS, Station 2C-10.16, 4700 River Road, Unit 25, Riverdale, MD 20737-1238.

Supporting documents and any comments we receive on this docket may be viewed at http://www.regulations.gov or in our reading room, which is in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Aimee Hunt, MPH, DACVPM, Veterinary Medical Officer, Strategy & Policy, Ruminant Health Center-Cattle, Veterinary Services, APHIS, Fort Collins, CO; (515) 686-1435; email: VS.SP.Cattle.Health.Center@usda.gov.

SUPPLEMENTARY INFORMATION: Pursuant to the provisions of the Privacy Act of 1974, as amended, 5 U.S.C. 552a, the U.S. Department of Agriculture's (USDA's) Animal and Plant Health Inspection Service (APHIS) is rescinding the system of records notice, Brucellosis Information System and Brucellosis Recording and Reporting System, USDA/APHIS-6, and removing it from its inventory. This system was created to maintain information on herds and individual animals tested, studied, or restricted under the brucellosis program; epidemiologic studies; State and Federal personnel; contractual personnel; livestock markets; slaughtering establishments; milk processing plants; livestock dealers (including agents and brokers); and laboratories engaged in or affected by brucellosis program activities. This system of records notice is rescinded because it has been superseded by another system of records published by the Department.

The records previously maintained in the Brucellosis Information System and Brucellosis Recording and Reporting System are now maintained within the Animal Health, Disease, and Pest Surveillance and Management System, USDA/APHIS-15, which supports APHIS' mission of protecting and improving the health, quality, and marketability of animals within the United States and response to animal health emergencies.

Rescinding the Brucellosis Information System and Brucellosis Recording and Reporting System will have no adverse impacts on individuals as the records are covered by and maintained under the Animal Health, Disease, and Pest Surveillance and Management System. This notice hereby rescinds the Brucellosis Information System and Brucellosis Recording and Reporting System of records notice as identified below.

SYSTEM NAME AND NUMBER:

Brucellosis Information System and Brucellosis Recording and Reporting System, USDA/APHIS-6.

HISTORY:

Brucellosis Information System, USDA/APHIS-6, was published as a new system in its entirety on September 3, 1981 (46 FR 44206-44208; Docket No. 81-042).

Brucellosis Information System and Brucellosis Recording and Reporting System, USDA/APHIS-6, was modified and published in its entirety on February 27, 1987 (52 FR 6031-6038; Docket No. 86-408).

Done in Washington, DC, this 31st day of October 2024.
Michael Watson,
Administrator, Animal and Plant Health Inspection Service.

[FR Doc. 2024-25814 Filed 11-5-24; 8:45 am]

BILLING CODE 3410-34-P